NATIONAL ARCHIVES AND RECORDS ADMINISTRATION

Agency Information Collection Activities: Submission for OMB Review; Comment Request

AGENCY: National Archives and Records Administration (NARA).

ACTION: Notice.

SUMMARY: NARA is giving public notice that the agency has submitted to OMB for approval the information collection described in this notice. The public is invited to comment on the proposed information collection pursuant to the Paperwork Reduction Act of 1995.

DATES: Written comments must be submitted to OMB at the address below on or before September 30, 2005 to be assured of consideration.

ADDRESSES: Send comments to Desk Officer for NARA, Office of Management and Budget, New Executive Office Building, Washington, DC 20503; fax: 202-395-5167.

FOR FURTHER INFORMATION CONTACT: Requests for additional information or copies of the proposed information collection and supporting statement should be directed to Tamee Fechhelm at telephone number 301-837-1694 or fax number 301-837-3213.

SUPPLEMENTARY INFORMATION: Pursuant to the Paperwork Reduction Act of 1995 (Pub. L. 104-13), NARA invites the general public and other Federal agencies to comment on proposed information collections. NARA published a notice of proposed collection for this information collection on June 21, 2005 (70 FR 35733 and 35734). No comments were received. NARA has submitted the described information collection to OMB for approval.

In response to this notice, comments and suggestions should address one or more of the following points: (a) Whether the proposed information collection is necessary for the proper performance of the functions of NARA; (b) the accuracy of NARA's estimate of the burden of the proposed information collection; (c) ways to enhance the quality, utility, and clarity of the information to be collected; and (d) ways to minimize the burden of the collection of information on respondents, including the use of information technology; and (e) whether small businesses are affected by this collection. In this notice, NARA is soliciting comments concerning the following information collection:

Title: Order Forms for U.S. Court Records in the National Archives.

OMB Number: 3095-NEW.

Agency Form Number: NATF Forms 90, 91, 92, and 93.

Type of Review: Regular.

Affected Public: Individuals or households.

Estimated Number of Respondents: 76,222.

Estimated Time per Response: 10 minutes.

Frequency of Response: On occasion.

Estimated Total Annual Burden Hours: 12,704 hours.

Abstract: Submission of requests on a form is necessary to handle in a timely fashion the volume of requests received for these records (approximately 73,334 per year for the NATF 90, approximately 1,426 per year for the NATF 91, approximately 1,312 per year for the NATF 92, approximately 150 per year for the NATF 93) and the need to obtain specific information from the researcher to search for the records sought. As a convenience, the form will allow researchers to provide credit card information to authorize billing and expedited mailing of the copies. NARA is exploring the option of allowing researchers to use Order Online! (http://www.archives.gov/research_room/obtain_copies/military_and_genealogy_order_forms.html) to complete the forms and order the copies.

Dated: August 25, 2005.
Shelly L. Myers,
Deputy Chief Information Officer.

[FR Doc. 05-17304 Filed 8-30-05; 8:45 am]

BILLING CODE 7515-01-P